DEPARTMENT OF AGRICULTURE

Forest Service

Payette National Forest, ID, Proposed Grouse Creek Road Relocation

AGENCY: Forest Service, USDA.

ACTION: Notice of intent to prepare an environmental impact statement.

SUMMARY: The USDA Forest Service, Intermountain Region, will prepare an environmental impact statement (EIS) on a proposal to relocate a 1.5-mile section of the Grouse Creek Road (Forest Service Road 50325), Payette National Forest. The Grouse Creek Road is within the Grouse Creek watershed, a tributary to the Secesh River, and is about 25 miles northeast of the city of McCall, in Idaho County, Idaho. The road relocation is necessary to improve existing road related problems and associated impacts to threatened species and their designated critical habitat, while maintaining road access for public and administrative uses. The current road is physically located in a narrow strip of land between two Inventoried Roadless Areas (IRAs). The 13,005-acre Crystal Mountain Inventoried Roadless Area lies immediately to the west, and the 8,535-acre Chimney Rock Inventoried Roadless Area lies to the east. A portion of the new road would be within the Crystal Mountain Inventoried Roadless Area.

DATES: Comments must be received by July 19, 2002.

ADDRESSES: Send written commentrs to District Ranger Randy Swick, McCall Ranger District, Payette Natiional Forest, P.O. Box 1026, McCall, Idaho 83638, or Fax (208) 634-0433.

FOR FURTHER INFORMATION CONTACT: Justin Jimenez at the above address, by phone at (208) 634-0400 or by email: jjimenez02@fs.fed.us

SUPPLEMENTARY INFORMATION:

Purpose and Need for Action

The purpose of this project is to remove a direct threat to Endangered Species Act (ESA) listed fish species and their designated critical habitat along a 1.5-mile section of Grouse Creek Road, while maintaining a viable access route through the Grouse Creek corridor.

The need for the project is based on minimizing road related impacts to water quality and fish habitat while continuing to provide road access. The Grouse Creek Road is in close proximity to Grouse Creek in areas of exceptionally high aquatic diversity and productivity. Grouse Creek contains chinook salmon, steelhead, and bull trout, all of which are species listed as “Threatened” under the ESA. The Burgdorf Junction Fire Burned Area Emergency Rehabilitation (BAER) Report (2000) indicated that the Burgdorf Junction Wildlife of 2000 was stand-replacing within 90 percent of the Grouse Creek drainage. Post-fire BAER inventories (2000) identified many road problems on the Grouse Creek Road. The Forest Service corrected them shortly after the fire, with the exception of the proposed relocation.

The Burgdorf Roads Analysis (2002) found that the section of road to be relocated is within Riparian Habitat Conservation Areas (RHCAs), runs parallel to Grouse Creek through a steep canyon, and is resulting in direct sediment delivery to Grouse Creek from erosion of road surface and fill material. Surface erosion and associated sediment delivery from this section of road is adversely affecting designated critical habitat for ESA listed species and is of particular concern. If the road is left in its current location, active erosion of road surface and fill material cannot be avoided.

Forest Service personnel intensively reviewed the proposed relocation alignment on the ground and determined it best met the objectives of minimizing impacts to fisheries, while minimizing encroachment into the roadless area and providing access in the Grouse Creek corridor.

The Grouse Creek Road provides access to an active mine, a seasonally staffed fire lookout, several trailheads, dispersed campsites and California Lake, which provides fishing and camping opportunities. The Forest Service has validated the need to maintain suitable access via the Grouse Creek corridor based on the information identified above.

Idaho County has made a RS 2477 assertion on the Grouse Creek Road. The validity of their claim has yet to be decided, and early settlement of the claim is not foreseeable. This limits the ability of the Forest Service to close the Grouse Creek Road to vehicle use.

Proposed Action

The Forest Service proposes to relocate a section of the Grouse Creek Road (Forest Service Road 50325) upslope on gentle ground. A 1.5-mile section of road would be relocated; currently 1.3 miles of this road is within RHCAs. This would require 2.9 miles of new road construction, of which 2.4 miles would be within the Crystal Mountain Inventoried Roadless Area. The exiting 1.5 miles of the Grouse Creek Road and an additional 0.4 mile of associated unclassified spur road would be obliterated.

The existing road is located in a corridor between the Crystal Mountain and Chimney rock IRAs. The proposed road relocation would affect a total of 172 acres of the Crystal Mountain Inventoried Roadless Area, that portion lying between the new road and the roadless boundary to the east. To minimize this effect, Forest Service proposes to adjust the Chimney Rock Inventoried Roadless Area boundary to the west, realigning the IRA boundary along the new road corridor. The Payette National Forest Plan (1988) allocates the portion of the Crystal Mountain IRA that would be altered to general forest management, which allows development including road construction. The PayetteNational Forest's Draft Revised Forest Plan (2000) proposes to manage the Crystal Mountain IRA under an Aquatic/Terrestrial Active Restoration Management Prescription Category (MPC 3.2). This proposed action is fully consistent with that direction.

The proposed road relocation project would not involve any removal of merchantable timber; all cleared timber would be used or left on site. Field reconnaissance identified very little, if any, merchantable timber within the new construction road right-of-way; therefore, there will be no timber sale involved with this project.

The proposed action meets recent Forest Service Manual (FSM) direction requiring a Roads Analysis before new road construction or changes in road management may take place on a National Forest (FSM 7712.1, 7712.12b, and 7712.13). FSM 1925.04b, identifies that it is the responsibility of the Regional Forester to serve as the Responsible Official for the following decision on a road reconstruction project in an IRA: “road realignment is needed to prevent resource damage by an existing road that is deemed essential for public or private access, management, or public health or safety, and where such damage cannot be corrected by maintenance.” The proposed action meets the description above and the Regional Forester has reviewed the proposed project and agreed to serve as the Responsible Official.

This project is a National Fire Plan Rehabilitation and Community Restoration Project.

Responsible Official

The responsible official is the Regional Forester of the Intermountain Region.

Nature of Decision To Be Made

The decision to be made is whether to relocate the Grouse Creek Road, and if so, where the new road segment should be located.

Scoping Process

The Payette National Forest is conducting scoping for issues the Environmental Impact Statement should address. Comments provided by the public and other agencies will be used to develop issues to be addressed. The public is encouraged to visit with Forest Service officials during the analysis prior to the decision.

Preliminary Issues

Preliminary issues identified by the Forest Service interdisciplinary team include effects of building a road into an Inventoried Roadless Area, and short term effects to threatened and endangered species associated with road construction and obliteration.

Public Participation

Public participation will be important at several points during the analysis, particularly during scoping of issues and review of the draft environmental impact statement (DEIS). This notice of intent initiates the scoping process, which guides the development of the EIS. The scoping process will identify potential issues and issues to be analyzed in detail, and will lead to the development of alternatives to the proposal.

Comments received in response to this notice, including the names and addresses of those who comment, will be part of the project record and available for public review.

The second major opportunity for public input is with the DEIS. The DEIS will analyze a range of alternatives to the proposed action, including the no-action alternative. The DEIS is expected to be filed with the Environmental Protection Agency (EPA) and to be available for public review in February 2003. EPA will then publish a notice of availability of the DEIS in the Federal Register. Public comments will be invited. The comment period on the DEIS will be 45 days from the date the EPA publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). In addition, environmental objections that could be raised at the draft environmental impact statement stage but that are not raised until after completion of the final environmental impact statement may be waived or dismissed by the courts. City of Angoon v. Hodel, 803 F.2d 1016, 1022 (9th Cir. 1986), and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues raised by the proposed action, comments on the DEIS should be as specific as possible. It is also helpful if comments refer to specific pages or chapters of the draft statement. Comments may also address the adequacy of the DEIS or the merits of the alternatives formulated and discussed in the statement. Reviewers may wish to refer to the Council on Environmental Quality Regulations for implementing the procedural provisions of the National Environmental Policy Act at 40 CFR 1503.3 in addressing these points.

In the Final EIS (FEIS) the Forest Service will respond to comments received (40 CFR 1503.4). The responsible official will consider the comments, responses, and environmental consequences addressed in the FEIS, which is expected to be completed in May 2003, along with applicable laws, regulations, and policies in making the final decision regarding this proposal. The responsible official will document the decision and reasons for it in the Record of Decision. That decision will be subject to appeal under 36 CFR 215.

Dated: June 13, 2002.
William S. Werner,
Intermountain Region, Acting Regional Forester.

[FR Doc. 02-15656 Filed 6-20-02; 8:45 am]

BILLING CODE 3410-11-M